DEPARTMENT OF VETERANS AFFAIRS

Staff Sergeant Fox Suicide Prevention Grant Program Funding Opportunity

AGENCY: Department of Veterans Affairs (VA).

ACTION: Notice of funding opportunity.

SUMMARY: VA is announcing the availability of funds for suicide prevention grants under the Staff Sergeant Fox Suicide Prevention Grant Program (SSG Fox SPGP). This Notice of Funding Opportunity (NOFO) contains information concerning SSG Fox SPGP; the grant application processes; and the amount of funding available. Awards made for suicide prevention grants will fund operations beginning on September 30, 2024. This is a 1-year award with the option to renew for an additional year, pending availability of funds and grantee performance.

DATES: Applications for suicide prevention services grants under SSG Fox SPGP must be received by 11:59 p.m. eastern time on April 26, 2024. In the interest of fairness to all competing applicants, this deadline is firm as to date and hour, and VA will treat as ineligible for consideration any application that is received after the deadline. Applicants should take this practice into account and make early submission of their materials to avoid any risk of loss of eligibility brought about by unanticipated delays, computer service outages, or other submission-related problems.

ADDRESSES: For a Copy of the Application Package: Copies of the application can be downloaded from the SSG Fox SPGP website at https://www.mentalhealth.va.gov/ssgfox-grants/. Questions should be referred to SSG Fox SPGP by email at VASSGFoxGrants@va.gov. For detailed program information and requirements, see 38 CFR part 78.

Submission of Application Package: Applicants must submit applications electronically following instructions found at https://www.mentalhealth.va.gov/ssgfox-grants/. Applications may not be mailed, hand carried, or sent by facsimile. Applications must be received by SSG Fox SPGP by 11:59 p.m. eastern time on the application deadline date. Applications must arrive as a complete package. Materials arriving separately will not be included in the application package for consideration and may result in the application being rejected.

Technical Assistance: Information regarding how to obtain technical assistance with the preparation of a new or renewal suicide prevention grant application is available on the SPGP Program website at https://www.mentalhealth.va.gov/ssgfox- grants/.

FOR FURTHER INFORMATION CONTACT: Ms. Sandra Foley, SSG Fox SPGP Director, Office of Mental Health and Suicide Prevention, by email at VASSGFoxGrants@va.gov or 202-502-0002.

SUPPLEMENTARY INFORMATION: Funding Opportunity Title: Staff Sergeant Fox Suicide Prevention Grant Program.

Announcement Type: Initial.

Funding Opportunity Number: VA-FOX-SP-FY2024.

Assistance Listing Number: 64.055.

I. Funding Opportunity Description

A. Assistance Listing Number: 64.005 Staff Sergeant Fox Suicide Prevention Grant Program.

B. Purpose: The purpose of SSG Fox SPGP is to reduce Veteran suicide by expanding suicide prevention programs for Veterans through the award of suicide prevention services grants to eligible entities to provide or coordinate the provision of suicide prevention services to eligible individuals and their families. SSG Fox SPGP builds upon VA's public health approach, which combines clinical and community-based interventions to prevent Veteran suicide for those inside and outside of VA health care. This grant program assists in further implementing a public health approach through these community efforts. The goal of these grants is to reduce Veteran suicide risk; improve baseline mental health status, well-being, and social support; and improve financial stability for eligible individuals and their families.

C. Funding Priorities: The principal goal of this NOFO is to seek entities that have demonstrated the ability to provide or coordinate suicide prevention services. Under Priority 1, VA will provide funding to eligible entities with existing SPGP awards. Grant funds will be awarded pursuant to 38 CFR 78.40.

Under Priority 2, applications will be accepted from new eligible entities. VA may prioritize the distribution of suicide prevention services grants under this Priority to (i) Rural communities; (ii) Tribal lands; (iii) Territories of the United States; (iv) medically underserved areas; (v) areas with a high number or percentage of minority Veterans or women Veterans; and (vi) areas with a high number or percentage of calls to the Veterans Crisis Line.

D. Definitions: The regulations for SSG Fox SPGP, published in the Federal Register on March 10, 2022, and codified in 38 CFR part 78, contain all detailed definitions and requirements pertaining to this program.

E. Eligible individuals. To be an eligible individual under this part, a person must be at risk of suicide and further meet the definition of eligible individual in section 201(q) of Public Law 116-171. Risk of suicide means exposure to, or the existence of, any of the following factors, to any degree, that increase the risk for suicidal ideation and/or behaviors:

(1) Health risk factors, including mental health challenges, substance use disorder, serious or chronic health conditions or pain, and traumatic brain injury.

(2) Environmental risk factors, including prolonged stress, stressful life events, unemployment, homelessness, recent loss, and legal or financial challenges.

(3) Historical risk factors, including previous suicide attempts, family history of suicide, and history of abuse, neglect, or trauma, including military sexual trauma.

F. Authority: Funding applied for under this NOFO is authorized by section 201 of the Commander John Scott Hannon Veterans Mental Health Improvement Act (Pub. L. 116-171). VA established and implemented this statutory authority for SSG Fox SPGP in 38 CFR part 78. Funds made available under this NOFO may be subject to the requirements of section 201 of the Act, 38 CFR part 78 and other applicable laws and regulations.

G. Approach: Suicide prevention services address the needs of eligible individuals and their families and are necessary for improving the mental health status and well-being and reducing the suicide risk of eligible individuals and their families. Applicants must include in their application that they will provide or coordinate the provision of the baseline mental health screening to all participants aged 18 and over. In addition, the application must include the proposed suicide prevention services to be provided or coordinated and the identified need for those services. Suicide prevention services include:

Outreach to identify and engage eligible individuals (and their families) at highest risk of suicide: Grantees providing or coordinating the provision of outreach must use their best efforts to ensure that eligible individuals, including those who are at highest risk of suicide or who are not receiving health care or other services furnished by VA, and their families are identified, engaged, and provided suicide prevention services. Based on the suicide risk and eligibility screening conducted by grantees, eligible individuals who should be considered at highest risk of suicide are those with a recent suicide attempt, an active plan or preparatory behavior for suicide or a recent hospitalization for suicidality. VA will provide access to the Columbia Suicide Severity Rating Scale to determine level of suicide risk. Outreach must include active liaison with local VA facilities; State, local or Tribal government (if any); and private agencies and organizations providing suicide prevention services to eligible individuals and their families in the area to be served by the grantee. This outreach can include, for example, local mental health and emergency or urgent care departments in local hospitals or clinics. Grantees are required to have a presence in the area to meet with individuals and organizations to create referral processes to the grantee and other community resources. VA requires that grantees coordinate with VA with respect to the provision of health care and other services to eligible individuals. VA expects that grantees will work with local VA facilities on a regular basis to coordinate care when needed for eligible individuals.

Baseline mental health screening: Grantees must provide or coordinate the provision of baseline mental health screenings to all participants aged 18 and over that the grantee serves at the time those services begin. This baseline mental health screening ensures that the participant's mental health needs can be properly determined and that suicide prevention services can be further tailored to meet the individual's needs. The baseline mental health screening must be provided using validated screening tools that assess suicide risk and mental and behavioral health conditions. VA will provide access to the Patient Health Questionnaire, Generalized Self-Efficacy Scale, Interpersonal Support Evaluation List, Socio Economic Status, and the Warwick Edinburgh Mental Well-Being Scale to grantees providing or coordinating the provision of baseline mental health screenings.

If an eligible individual is at risk of suicide or other mental or behavioral health condition pursuant to the baseline mental health screening, the grantee must refer such individual to VA for care. If the eligible individual refuses the grantee's referral to VA, any ongoing clinical services provided to the eligible individual by the grantee is at the expense of the grantee. It is important to note that this is only required for eligible individuals and not the family of eligible individuals.

If a participant other than an eligible individual is at risk of suicide or other mental or behavioral health condition pursuant to the baseline mental health screening, the grantee must refer such participant to appropriate health care services in the area. To the extent that the grantee can furnish such appropriate health care services on an ongoing basis and has available funding separate from funds provided under this grant program to do so, they would be able to furnish such services using those non-VA funds without being required to refer such participants to other services. As noted above, any ongoing clinical services provided to the participant by the grantee is at the expense of the grantee.

When such referrals are made by grantees to VA, to the extent practicable, those referrals are required to be a “warm hand-off” to ensure that the eligible individual receives necessary care. This “warm hand-off” may include providing any necessary transportation to the nearest VA facility, assisting the eligible individual with scheduling an appointment with VA and any other similar activities that may be necessary to ensure the eligible individual receives necessary care in a timely manner.

Education: Suicide prevention education programs may be provided and coordinated to be provided to educate communities, Veterans, and families on how to identify those at risk of suicide, how and when to make referrals for care, and the types of suicide prevention resources available within the area. Education can include gatekeeper training, lethal means safety training, or specific education programs that assist with identification, assessment, or prevention of suicide. Gatekeeper training generally refers to programs that seek to develop individuals' knowledge, attitudes, and skills to prevent suicide. Gatekeeper training is an educational course designed to teach clinical and non-clinical professionals or gatekeepers the warning signs of a suicide crisis and how to respond and refer individuals for care. Education is important because learning the signs of suicide risk, how to reduce access to lethal means, and to connect those at risk of suicide to care can improve understanding of suicide and has the potential to reduce suicide.

Clinical services for emergency treatment: Clinical services may be provided or coordinated to be provided for emergency treatment of a participant. Emergency treatment means medical services, professional services, ambulance services, ancillary care and medication (including a short course of medication related to and necessary for the treatment of the emergency condition that is provided directly to or prescribed for the patient for use after the emergency condition is stabilized and the patient is discharged) was rendered in a medical emergency of such nature that a prudent layperson would have reasonably expected that delay in seeking immediate medical attention would have been hazardous to life or health. This standard is met by an emergency medical condition manifesting itself by acute symptoms of sufficient severity (including severe pain) that a prudent layperson who possesses an average knowledge of health and medicine could reasonably expect the absence of the immediate medical assistance to result in placing the health of the individual in serious jeopardy, serious impairment to bodily functions, or serious dysfunction of any bodily organ or part. It is important to note that emergency medical conditions include emergency mental health conditions.

If an eligible individual is furnished clinical services for emergency treatment and the grantee determines that the eligible individual requires ongoing services, the grantee must refer the eligible individual to VA for additional care. If the eligible individual refuses the grantee's referral to VA, any ongoing clinical services provided to the eligible individual by the grantee is at the expense of the grantee.

If a participant other than an eligible individual is furnished clinical services for emergency treatment and the grantee determines that the participant requires ongoing services, the grantee must refer the participant to appropriate health care services in the area for additional care. Except in instances in which a participant other than an eligible individual is furnished clinical services for emergency treatment, funds provided under this grant program may not be used to provide ongoing clinical services to such participants, and any ongoing clinical services provided to the participant by the grantee is at the expense of the grantee.

Case management services: Case management services are focused on suicide prevention to effectively assist participants at risk of suicide. Grantees providing or coordinating the provision of case management services must provide or coordinate the provision of such services that include, at a minimum: (a) performing a careful assessment of participants and developing and monitoring case plans in coordination with a formal assessment of suicide prevention services needed, including necessary follow-up activities, to ensure that the participant's needs are adequately addressed; (b) establishing linkages with appropriate agencies and service providers in the area to help participants obtain needed suicide prevention services; (c) providing referrals to participants and related activities (such as scheduling appointments for participants) to help participants obtain needed suicide prevention services, such as medical, social, and educational assistance or other suicide prevention services to address participants' identified needs and goals; (d) deciding how resources and services are allocated to participants on the basis of need; (e) educating participants on issues, including, but not limited to, suicide prevention services' availability and participant rights; and, (f) other activities, as approved by VA, to serve the comprehensive needs of participants for the purpose of reducing suicide risk.

Peer support services: The provision or coordination of the provision of peer support services by the grantee must be to help participants understand what resources and supports are available in their area for suicide prevention. Peer support services must be provided by Veterans trained in peer support with similar lived experiences related to suicide or mental health. Peer support specialists serve as role models and a resource to assist participants with their mental health recovery. Peer support specialists function as interdisciplinary team members, assisting physicians and other professional and non-professional personnel in a rehabilitation treatment program. Each grantee providing or coordinating the provision of peer support services must ensure that Veterans providing such services to participants meet the requirements of 38 U.S.C. 7402(b)(13) and meet qualification standards for appointment; or have completed peer support training, are pursuing credentials to meet the minimum qualification standards for appointment and are under the supervision of an individual who meets the necessary requirements of 38 U.S.C. 7402(b)(13).

Qualification standards include that the individual is (1) a Veteran who has recovered or is recovering from a mental health condition, and (2) certified by (i) a not-for-profit entity engaged in peer support specialist training as having met such criteria as the Secretary shall establish for a peer support specialist position, or (ii) a State as having satisfied relevant State requirements for a peer support specialist position. VA has further set forth qualifications for its peer support specialists in VA Handbook 5005, Staffing (last updated November 8, 2023). See VA Handbook/Directive 5005. Grant funds may be used to provide education and training for employees of the grantee or the community partner who provide peer support services based on the terms set forth in the grant agreement.

Assistance in obtaining VA benefits: The provision of this assistance will provide grantees with additional means by which VA can notify participants of available VA benefits. Grantees assisting participants in obtaining VA benefits are required to aid participants in obtaining any benefits from VA for which the participants are eligible. Such benefits include but are not limited to: (1) vocational and rehabilitation counseling; (2) supportive services for homeless Veterans; (3) employment and training services; (4) educational assistance; and (5) health care services. Grantees are not permitted to represent participants before VA with respect to a claim for VA benefits unless they are recognized for that purpose pursuant to 38 U.S.C. 5902. Employees and members of grantees are not permitted to provide such representation unless the individual providing representation is accredited pursuant to 38 U.S.C. chapter 59.

Assistance in obtaining and coordinating other public benefits and assistance with emergent needs: Grantees assisting participants in obtaining and coordinating other public benefits or assisting with emergency needs are required to assist participants in obtaining and coordinating the provision of benefits that are being provided by Federal, State, local, or Tribal agencies, or any other grantee in the area served by the grantee by referring the participant to and coordinating with such entity. If a public benefit is not being provided by Federal, State, local, or Tribal agencies, or any other grantee in the area, the grantee is not required to obtain, coordinate, or provide such public benefit. Public benefits and assistance that a participant may be referred to include: health care services, which include (1) health insurance and (2) referrals to a governmental entity or grantee that provides (i) hospital care, nursing home care, outpatient care, mental health care, preventive care, habilitative and rehabilitative care, case management, respite care, home care, (ii) the training of any eligible individual's family in the care of any eligible individual, and (iii) the provision of pharmaceuticals, supplies, equipment, devices, appliances, and assistive technology. Grantees may also refer participants, as appropriate, to an entity that provides daily living services relating to the functions or tasks for self-care usually performed in the normal course of a day. Grantees may refer or provide directly personal financial planning services; transportation services; temporary income support services (including, among other services, food assistance and housing assistance); fiduciary and representative payee services; legal services to assist eligible individuals with issues that may contribute to the risk of suicide; and childcare. For additional details on these elements, applicants should consult 38 CFR 78.80.

Nontraditional and innovative approaches and treatment practices: Grantees may provide or coordinate the provision of nontraditional and innovative approaches and treatment, including but not limited to complementary or alternative interventions with some evidence for effectiveness of improving mental health or mitigating a risk factor for suicidal thoughts and behavior. Applicants may propose nontraditional and innovative approaches and treatment practices in their suicide prevention services grant applications. VA is exercising its authority by reserving the right to approve or disapprove nontraditional and innovative approaches and treatment practices to be provided or coordinated to be provided using funds authorized under SSG Fox SPGP.

Other services: Grantees may provide general suicide prevention assistance, which may include payment directly to a third party (and not to a participant), in an amount not to exceed $750 per participant during any 1-year period, beginning on the date that the grantee first submits a payment to a third party. Expenses that may be paid include expenses associated with gaining or keeping employment, such as uniforms, tools, certificates, and licenses, as well as expenses associated with lethal means safety and secure storage, such as gun locks and locked medication storage.

Applicants may propose additional suicide prevention services to be provided or coordinated to be provided. Examples of other services may include but are not limited to adaptive sports; equine assisted therapy; in-place or outdoor recreational therapy; substance use reduction programming; individual, group, or family counseling; and relationship coaching. VA reserves the right to approve or disapprove other suicide prevention services to be provided or coordinated to be provided using funds authorized under SSG Fox SPGP.

H. Guidance for the Use of VA Suicide Prevention Grant Funds: Consistent with section 201(o) of the Act, only grantees that are a State or local government or an Indian Tribe can use grant funds to enter into an agreement with a community partner under which the grantee may provide funds to the community partner for the provision of services to eligible individuals and their families. However, grantees may choose to enter into contracts for goods or services because in some situations, resources may be more readily available at a lower cost, or they may only be available from another party in the community.

Grantees may make payments directly to a third party on behalf of a participant for childcare, transportation, food, housing, and general suicide prevention assistance. Funds can be used to conduct outreach, educate, and connect with eligible individuals who are not engaged with VA services. Any outreach and education that is funded by SSG Fox SPGP should link directly back to a referral to the grantee's program for an opportunity to enroll the eligible individual in the program.

Funds must be used to screen for eligibility and suicide risk and enroll individuals in the program accordingly. Note that some individuals who come through the referral process may not engage in services. Grantees are expected to determine what referrals are appropriate for these individuals for follow-up services. Funds must be used to coordinate and provide suicide prevention services, by the grantee, based on screening and assessment, including clinical services for emergency treatment.

Funds must also be used to evaluate outcomes and effectiveness related to suicide prevention services. Prior to providing suicide prevention services, grantees must verify, document, and classify each participant's eligibility for suicide prevention services. Grantees must determine and document each participant's degree of risk of suicide using tools identified in the suicide prevention services grant agreement. Prior to services ending, grantees must provide or coordinate the provision of a mental health screening to all participants aged 18 or over they serve, when possible. This screening must be conducted with the same tools used to conduct the initial baseline mental health screening. Having this screening occur at the beginning and prior to services ending is important in evaluating the effectiveness of the services provided.

Grantees must document the suicide prevention services provided or coordinated, how such services are provided or coordinated, the duration of the services provided or coordinated, and any goals for the provision or coordination of such services. If the eligible individual wishes to enroll in VA health care, the grantee must inform the eligible individual of a VA point of contact for assistance with enrollment.

For each participant aged 18 and over, grantees must develop and document an individualized plan with respect to the provision of suicide prevention services provided. This plan must be developed in consultation with the participant.

As outlined in 38 CFR 78.105, activities for which grantees will not be authorized to use suicide prevention services grant funds include direct cash assistance to participants and their families, those legal services prohibited pursuant to § 78.80(g), medical or dental care and medicines, except for clinical services for emergency treatment authorized pursuant to § 78.60, any activities considered illegal under Federal law, and any costs identified as unallowable per 2 CFR part 200, subpart E.

II. Award Information

A. Overview: This NOFO announces the availability of funds for suicide prevention grants under the SSG Fox SPGP.

B. Funding Priorities: The funding priorities for this NOFO are as follows:

Under Priority 1, current grantees may apply for a new grant award to continue to provide services within the scope of their current grant award; for purposes of 38 CFR part 78, these awards are considered renewals. Priority 1 applicants must apply using the renewal application. To be eligible for renewal of a suicide prevention grant, the Priority 1 applicants' program must be substantially the same as the program of the grantees' current grant award. Renewal applications can request funding that is equal to or less than their current annualized award.

Under Priority 2, VA will accept applications from eligible entities that are not current grantees for funding consideration. Priority 2 applicants must apply using the application materials designated for new applicants.

C. Allocation of funds: Approximately $52,500,000 is available for grant awards under this NOFO. The maximum allowable grant size is $750,000 per year per eligibility entity.

(1) In response to this NOFO, only existing grantees can apply as Priority 1 applicants. New applicants apply under Priority 2. Priority 1 renewal grant requests cannot exceed the current award.

(2) If a Priority 1 applicant is not renewed, the existing grant will end on September 30, 2024.

(3) Priority 1 applicants may request an amount less than their current award; this will not be considered a substantial change to the program.

D. Grant Award Period: Grants awarded will be for a minimum of a 1-year period starting September 30, 2024. Awards may be extended for up to 1 additional year pending availability of funding and grantee performance.

III. Eligibility Information

A. Eligible Applicants: Eligible entity means an entity that meets the definition of an eligible entity in section 201(q) of the Act. Under section 201(q)(3) of the Act, an eligible entity must be one of the following:

(1) An incorporated private institution or foundation that (i) has no part of the net earnings of which incurs to the benefit of any member, founder, contributor or individual and (ii) has a governing board that would be responsible for the operation of the suicide prevention services provided under this section.

(2) A corporation wholly owned and controlled by an organization meeting the requirements of clauses (i) and (ii) in section III.A.(1) of this NOFO.

(3) An Indian Tribe.

(4) A community-based organization that can effectively network with local civic organizations, regional health systems, and other settings where eligible individuals and their families are likely to have contact.

(5) A State or local government. This may include, but not be limited to, nonprofit and private organizations such as those that are part of VA-Substance Abuse and Mental Health Services Administration's Governors' and Mayors' Challenge to prevent suicide among Service members, Veterans, and their families; universities; and city, county, State, and Tribal governments.

Demonstration of eligibility as detailed in the application includes submission of documents as outlined in Section IV of this NOFO.

Applicants applying for funding consideration under Priority 1 are existing grantees with grant awards scheduled to end by September 30, 2024. For Priority 1 and 2, eligible entities may apply for funding up to $750,000 per entity.

Applicants must be registered in the System for Award Management (SAM) located at https://sam.gov, provide a unique entity identifier, and continue to maintain an active SAM registration with current information as per 2 CFR part 200.

B. Cost Sharing and Matching: Applicants are not required to submit proposals that contain matching funds.

IV. Application Submission Information

A. Obtaining an Application Package: Initial and renewal applications are located at https://www.mentalhealth.va.gov/ssgfox-grants/. Any questions regarding this process should be referred to SSG Fox SPGP by email at VASSGFoxGrants@va.gov. For detailed program information and requirements, see 38 CFR part 78. Applicants must submit applications electronically following instructions found at https://www.mentalhealth.va.gov/ssgfox-grants/.

B. Submission Date and Time: Applications for suicide prevention grant under SSG Fox SPGP must be received by SSG Fox SPGP by 11:59 p.m. eastern time on April 26, 2024. Awards made for suicide prevention grants will fund operations beginning September 30, 2024. Applications must arrive as a complete package. Materials arriving separately will not be included in the application package for consideration and may result in the application being rejected. Additionally, in the interest of fairness to all competing applicants, this deadline is firm as to date and hour, and VA will treat as ineligible for consideration any application that is received after the deadline. Applicants should take this practice into account and make early submission of their materials to avoid any risk of loss of eligibility brought about by unanticipated delays, computer service outages, or other delivery-related problems.

C. Other Submission Requirements:

(1) Existing grantees applying for Priority 1 grants may apply only as renewal applicants using the application designed for renewal grants.

(2) New applicants applying for Priority 2 grants may apply only as new applicants using the application designed for new grants.

(3) Submission of an incorrect, incomplete, inconsistent, unclear, or incorrectly formatted application package will result in the application being rejected during threshold review. The application packages must contain all required forms and certifications. Selections will be made based on criteria described in 38 CFR part 78 and this NOFO. Applicants and grantees will be notified of any additional information needed to confirm or clarify information provided in the application and the deadline by which to submit such information. Applicants must submit applications electronically. Applications may not be mailed, hand carried, or sent by facsimile.

(4) In accordance with 2 CFR part 200, applicants may elect to charge a de minimis rate of 10% of modified total direct costs, which may be used indefinitely. No documentation is required to justify the 10% de minimis indirect cost rate. As described in 2 CFR 200.403, costs must be consistently charged as either indirect or direct costs but may not be double charged or inconsistently charged as both. If chosen, this methodology once elected must be used consistently for all Federal awards until such time as a non-Federal entity chooses to negotiate for a rate, which the non-Federal entity may apply to do at any time.

(5) New applicants applying for Priority 2 grants may apply only as new applicants using the application designed for new grants.

D. Funding Restrictions: Funding will be awarded under this NOFO to existing grantees and new applicants (pending the availability of funds), beginning September 30, 2024. In addition to limitations set forth in law and regulation, the following restrictions apply:

(1) Funding cannot be used for construction.

(2) Funding cannot be used for vehicle purchases.

(3) Funding cannot be used for food for staff unless part of per diem travel.

(4) Funding cannot be used for pre-award costs.

V. Application Form and Content

A. Priority 1 (Renewals): VA's regulations at 38 CFR 78.35 describe the criteria that VA will use to score those grantees who are applying for renewal of a grant. Such criteria will assist with VA's review and evaluation of grantees to ensure that those grantees have successful existing programs using the previously awarded grant funds and that they have complied with the requirements of 38 CFR part 78 and section 201 of the Act. The criteria in 38 CFR 78.35 ensures that renewals of grants are awarded based on the grantee program's success, cost-effectiveness, and compliance with VA goals and requirements for this grant program.

The renewal application is organized into the following sections: Program Outcomes (maximum 55 points), Cost Effectiveness (maximum 20 points), Compliance with Program Goals and Requirements (25 maximum points), and Exhibits (no point values).

VA will use the following criteria to score grantees applying for renewal of a suicide prevention services grant:

(1) The success of the grantee's program.

(2) The cost-effectiveness of the grantee's program.

(3) The extent to which the grantee's program complies with SSG Fox SPGP goals and requirements.

The Exhibit section includes an applicant budget template, to be submitted in a Microsoft Excel File. The budget submission must include 1) Annual budget, attached as Exhibit I, containing a proposed quarterly budget for the renewal period, and 2) a Budget Narrative, which provides a description of each of the line items contained in the renewal application.

B. Priority 2 (New Applicants): VA's regulations at 38 CFR part 78.25 describe the criteria that VA will use to score new applications. Applicants must include all required documents in their application submission. Submission of an incorrect, incomplete, inconsistent, unclear, or incorrectly formatted application package will result in the application being rejected.

VA will use the following criteria to score new applicants who are applying for a suicide prevention services grant:

(1) The background, qualifications, experience, and past performance of the applicant and any community partners identified by the applicant in the suicide prevention services grant application.

(2) The applicant's program concept and suicide prevention services plan.

(3) The applicant's quality assurance and evaluation plan.

(4) The applicant's financial capability and plan.

(5) The applicant's area linkages and relations.

The Exhibit section includes an applicant budget template, to be submitted in a Microsoft Excel File. The budget submission must include: 1) annual budget, attached as Exhibit I, containing a proposed quarterly budget for the period, and 2) a budget narrative, which provides a description of each of the line items contained in the application.

VI. Review and Selection Process

A. Review Process: Based on the application criteria described above, grant applications will be divided into two groups: renewal applications and new applications. Suicide prevention services grant applications will be scored by a VA grant review committee. The grant review committee will be trained in understanding the program's goals, the requirements of the NOFO, VA's regulations for this program (38 CFR part 78) and the prescribed scoring rubric. Consistent with 38 CFR 78.40, if all available grant funds are awarded to renewal grants for existing grantees, no new applications will be awarded.

B. Application Selection: VA will only score applicants who meet the following threshold requirements:

(1) Application must be filed within the time period established in the NOFO, and any additional information or documentation requested by VA must be provided within the time frame established by VA.

(2) Application must be completed in all parts.

(3) Activities for which the suicide prevention services grant is requested must be eligible for funding.

(4) Applicant's proposed participants must be eligible to receive suicide prevention services.

(5) Applicant must agree to comply with the requirements of 38 CFR part 78.

(6) Applicant must not have an outstanding obligation to the Federal Government that is in arrears and does not have an overdue or unsatisfactory response to an audit.

(7) Applicant must not be in default by failing to meet the requirements for any previous Federal assistance.

If these threshold requirements are not met, VA will deem applicants to be ineligible for further consideration.

Renewal applications must receive at least 60 points and at least 1 point under each of the criteria noted above in Section V of this NOFO. After selection of renewal applicants, if there is funding available, VA will score and rank all new applicants who score at least 60 cumulative points and receive at least one point under each of the criteria noted above in section V of this NOFO.

VA will utilize the ranked scores of new applicants as the primary basis for selection. The applicants will be ranked in order from highest to lowest. However, VA will give preference to applicants that have demonstrated the ability to provide or coordinate suicide prevention services. VA may prioritize the distribution of suicide prevention services grants to: (i) rural communities; (ii) Tribal lands; (iii) Territories of the United States; (iv) medically underserved areas; (v) areas with a high number or percentage of minority Veterans or women Veterans; and (vi) areas with a high number or percentage of calls to the Veterans Crisis Line.

To the extent practicable, VA will ensure that suicide prevention services grants are distributed to: (i) provide services in areas of the United States that have experienced high rates of suicide by eligible individuals; (ii) applicants that can assist eligible individuals at risk of suicide who are not currently receiving health care furnished by VA; and (iii) ensure that suicide prevention services are provided in as many areas as possible.

VI. Award Administration Information

A. Award Notices: Although subject to change, VA expects to announce grant awards in the fourth quarter of fiscal year 2024. VA reserves the right in any year to make adjustments (e.g., to funding levels) as needed within the intent of the NOFO based on a variety of factors, including the availability of funding. The initial announcement of awards will be made via a news release posted on VA's SSG Fox SPGP website at https://www.mentalhealth.va.gov/ssgfox-grants. The SSG Fox SPGP will concurrently notify both successful and unsuccessful applicants. Only a grant agreement with a VA signature is evidence of an award and is an authorizing document allowing costs to be incurred against a grant award. Other notices, letters or announcements are not authorizing documents. The grant agreement includes the terms and conditions of the award and must be signed by the entity and VA to be legally binding.

B. Administrative and National Policy Requirements: VA places great emphasis on responsibility and accountability. VA has procedures in place to monitor grants provided under SSG Fox SPGP. All applicants selected in response to this NOFO must agree to meet applicable inspection standards outlined in the grant agreement.

As SSG Fox SPGP grants cannot be used to fund treatment for mental health or substance use disorders, with the exception of clinical services for emergency treatment, applicants must provide evidence that they can provide access to such services to all program participants through formal and informal agreements with community providers.

C. Reporting: Applicants should be aware of the following:

(1) Upon execution of a suicide prevention services grant agreement with VA, grantees will have a liaison appointed by the SSG Fox SPGP Office who will provide oversight and monitor the use of funds to provide or coordinate suicide prevention services provided to participants.

(2) VA will require that grantees use validated tools and assessments to determine the effectiveness of the suicide prevention services furnished by VA. These include any measures and metrics developed and provided by VA for the purposes of measuring the effectiveness of the programming to be provided in improving mental health status and well-being and reducing suicide risk and suicide deaths of eligible individuals. Grantees will be required to use the VA Data Collection Tool for this purpose.

(3) Grantees must provide each participant with a satisfaction survey, which the participant can submit directly to VA, within 30 days of such participant's pending exit from the grantee's program. This is required to assist VA in evaluating grantees' performance and participants' satisfaction with the suicide prevention services they receive.

(4) Monitoring will also include the submittal of periodic and annual financial and performance reports by the grantee in accordance with 2 CFR part 200. Performance reports submitted quarterly or semi quarterly are due no later than 30 calendar days after the reporting period per 2 CFR 200.329(c)(1). Performance reports submitted annually are due no later than 90 calendar days after the reporting period pursuant to 2 CFR 200.329(c)(1). The grantee must submit their Final Report no later than 120 calendar days after the conclusion of the period of performance per 2 CFR 200.344(b). The grantee will be expected to demonstrate adherence to the grantee's proposed program concept, as described in the grantee's application.

(5) VA has the right, at all reasonable times, to make onsite visits to all grantee locations and have virtual meetings where a grantee is using suicide prevention services grant funds to review grantee accomplishments and management control systems and to provide such technical assistance as may be required.

D. Payment to Grantees: Grantees will receive payments electronically through the U.S. Department of Health and Human Services Payment Management System. Grantees will have the ability to request payments as frequently as they choose. Grantees must have internal controls in place to ensure funding is available for the full duration of the grant period of performance, to the extent possible.

VII. Program Evaluation

The purpose of program evaluation is to evaluate the impact that participation in SSG Fox SPGP has on eligible individuals' financial stability, mental health status, well-being, suicide risk, and social support, as required by the Act.

As part of the national program evaluation, grantees must input data regularly in VA's web-based system. VA will ensure grantees have access to the data they need to gather and summarize program impacts and lessons learned on the implementation of the program evaluation criteria; performance indicators used for grantee selection and communication; and the criteria associated with the best outcomes for Veterans.

Training and technical assistance for program evaluation will be provided by VA, which will coordinate with subject matter experts to provide various trainings including the use of measures and metrics required for this program.

Signing Authority

Denis McDonough, Secretary of Veterans Affairs, approved and signed this document on January 11, 2024, and authorized the undersigned to sign and submit the document to the Office of the Federal Register for publication electronically as an official document of the Department of Veterans Affairs.

Jeffrey M. Martin,
Assistant Director, Office of Regulation Policy & Management, Office of General Counsel, Department of Veterans Affairs.

[FR Doc. 2024-01531 Filed 1-25-24; 8:45 am]

BILLING CODE 8320-01-P